DEPARTMENT OF COMMERCE

Foreign-Trade Zones Board

(Docket 33-2006)

Foreign-Trade Zone 52 - Suffolk County, New York, Request for Manufacturing Authority, (Cosmetic Kits)

An application has been submitted to the Foreign-Trade Zones Board (the

Board) by the Town of Islip (New York), operator of Foreign-Trade Zone (FTZ) 52, requesting authority on behalf of TKD Industries, Inc. (TKD) for the manufacture of cosmetic kits under FTZ procedures within FTZ 52 in Ronkonkoma, New York. The application was submitted pursuant to the provisions of the Foreign-Trade Zones Act, as amended (19 U.S.C. 81a-81u), and the regulations of the Board (15 CFR part 400). It was formally filed on August 10, 2006.

TKD operates a manufacturing facility (85 employees) within proposed FTZ 52 for the production of cosmetic kits. The finished products (classifiable as perfumes and toilet waters, lip makeup, eye makeup, manicure, powder, make-up treatments, shampoo, and hair-care products) would enter the United States duty free. Imported inputs are projected to comprise 34 percent of the value of finished products produced under FTZ procedures.

The company indicates that the foreign inputs that may be admitted under FTZ procedures are the following: pre-shave/after-shave; deodorants/antiperspirants; bath products; plastic boxes; plastic bottles; plastic caps; plastic displays; dust covers; glass containers; applicators; and re-usable boxes. Duty rates on the proposed imported components currently range from 2.5 to 7.0 percent ad valorem.

This application requests authority for TKD to conduct the activity under FTZ procedures, which would allow the company to choose the duty rate that applies to finished products for the foreign components noted above. TKD also anticipates realizing certain logistical savings. The application indicates that FTZ-related savings would help improve the facility's international competitiveness.

In accordance with the Board's regulations, a member of the FTZ Staff has been designated examiner to investigate the application and report to the Board.

Public comment is invited from interested parties. Submissions (original and 3 copies) shall be addressed to the Board's Executive Secretary at the address listed below. The closing period for their receipt is October 23, 2006. Rebuttal comments in response to material submitted during the forgoing period may be submitted during the subsequent 15-day period (to November 6, 2006).

A copy of the application and accompanying exhibits will be available for public inspection at each of the following locations: the New York U.S. Export Assistance Center, 20 Exchange Place, 40th Floor, New York, NY 10005; and, Office of the Executive Secretary, Foreign-Trade Zones Board, Room 1115, U.S. Department of Commerce, 1401 Constitution Avenue, NW, Washington, DC 20230.

Dated: August 10, 2006.
Andrew McGilvray,
Acting Executive Secretary.

[FR Doc. E6-13870 Filed 8-21-06; 8:45 am]

BILLING CODE 3510-DS-S